DEPARTMENT OF ENERGY

Federal Energy Regulatory Commission

[Project No. 2444-042]

Northern States Power Corporation—Wisconsin; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 2444-042.

c. Date Filed: July 21, 2023.

d. Applicant: Northern States Power Corporation—Wisconsin.

e. Name of Project: White River Hydroelectric Project (project).

f. Location: On the White River in Ashland and Bayfield Counties, Wisconsin.

g. Filed Pursuant to: Federal Power Act, 16 U.S.C. 791(a)-825(r).

h. Applicant Contact: Mr. Matthew Miller, Northern States Power Company—Wisconsin, 1414 W. Hamilton Avenue, P.O. Box 8, Eau Claire, WI 54702; Phone at (715) 737-1353, or email at matthew.j.miller@xcelenergy.com.

i. FERC Contact: Taconya D. Goar at (202) 502-8394, or Taconya.Goar@ferc.gov.

j. Cooperating agencies: Federal, State, local, and Tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: September 19, 2023.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. All filings must clearly identify the project name and docket number on the first page: White River Hydroelectric Project (P-2444-042).

m. The application is not ready for environmental analysis at this time.

n. Project Description: The existing project consists of: (1) an earthen and concrete dam that includes: (a) a 400-foot-long, 37-foot-high north earthen embankment; (b) a concrete section that includes: (i) a north abutment; (ii) a 20-foot-long, 36.5-foot-high intake structure equipped with a trashrack; (iii) a 35-foot-high gated spillway with two 25-foot-long bays that each contain a Tainter gate; and (iv) a south abutment; (c) a 300-foot-long, 37-foot-high south earthen embankment; (2) an impoundment with a surface area of 39.9 acres at an elevation of 711.6 feet National Geodetic Vertical Datum of 1929 (NGVD 29); (3) a 7-foot-diameter, 1,345-foot-long concrete pipe that conveys flows from the intake structure to a 16-foot-diameter, 62-foot-high steel surge tank; (4) two 30-foot-long steel penstocks; (5) a 69-foot-long, 39-foot-wide concrete and brick masonry powerhouse that contains one 700-kilowatt (kW) horizontal Francis turbine-generator unit and one 500-kW horizontal Francis turbine-generator unit, for a total installed capacity of 1,200 kW; and (6) a 220-foot-long, 2.4-kilovolt (kV) electric line that connects the generators to a 2.4/69-kV step-up transformer. The project creates an approximately 1,400-foot-long bypassed reach of the White River. A 1-foot-diameter steel pipe conveys flow from the intake structure to the bypassed reach.

Project recreation facilities include: (1) a boat access site and canoe portage take-out site at the north embankment of the dam; (2) an approximately 2,260 feet canoe portage trail; (3) a canoe put-in site approximately 90 feet downstream of the powerhouse; and (4) a tailrace fishing area.

The current license requires the project to operate in a run-of-river mode, such that outflow from the project approximates inflow to protect aquatic resources in the White River. The current license requires the impoundment to be maintained at an elevation between 710.4 and 711.6 feet NGVD 29. The current license also requires a minimum bypassed reach flow of 16 cubic feet per second (cfs) or inflow to the impoundment, whichever is less, to protect aquatic resources. The minimum and maximum hydraulic capacities of the powerhouse are 50 and 350 cfs, respectively. The average annual generation of the project was 4,927 megawatt-hours from 2017 through 2022.

The applicant proposes the following changes to the project boundary: (1) revise the project boundary around the impoundment to follow a contour elevation of 711.6 NGVD 29, which would result in a reduction in the total acreage of the project boundary upstream of the dam from 76.5 to 41.2 acres; (2) revise the project boundary downstream of the dam to remove approximately 38.8 acres of land north of the access road to the powerhouse and non-project substation and approximately 12 acres of land northeast of the powerhouse; and (3) revise the project boundary downstream of the dam to include approximately 0.3 acre of land associated with a non-project substation, approximately 0.6 acre of land associated with an access road, approximately 1.3 acres of water downstream of the project, and approximately 0.3 acre east of the south earthen embankment.

The applicant proposes to: (1) continue to operate the project in a run-of-river mode to protect aquatic resources; (2) continue to maintain the impoundment elevation between 710.4 and 711.6 feet NGVD 29; (3) continue to release a minimum flow of 16 cfs or inflow, whichever is less, to the bypassed reach at all times; (4) develop an operation compliance monitoring plan; (5) consult with resource agencies and the Bad River Band of Lake Superior Tribe of Chippewa Indians prior to temporary modifications of project operation, including non-emergency impoundment drawdowns, and file a report with the Commission within 14 days after the planned deviation; (6) conduct shoreline erosion surveys every ten years; (7) develop an invasive species monitoring plan; (8) pass woody debris from the impoundment to the bypassed reach; (9) replace recreational signage; (10) maintain project recreation facilities; (11) implement the State of Wisconsin's broad incidental take permits/authorizations for Wisconsin cave bats and wood turtles; (12) avoid vegetation management and construction activities within 660 feet of bald eagle nests during the nesting season; and (13) develop a historic properties management plan.

o. At this time, the Commission has suspended access to the Commission's Public Reference Room. Copies of the application can be viewed on the Commission's website at https://www.ferc.gov using the “eLibrary” link. Enter the docket number excluding the last three digits in the docket number field to access the document (P-2444). In addition to publishing the full text of this notice in the Federal Register, the Commission provides all interested persons an opportunity to view and/or print the contents of this notice, as well as other documents in the proceeding (e.g., license application) via the internet through the Commission's Home Page (http://www.ferc.gov) using the “eLibrary” link. For assistance, contact FERC at FERCOnlineSupport@ferc.gov or call toll-free, (866) 208-3676 or (202) 502-8659 (TTY).

You may also register online at https://ferconline.ferc.gov/FERCOnline.aspx to be notified via email of new filings and issuances related to this or other pending projects. For assistance, contact FERC Online Support.

p. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

q. Procedural Schedule: The application will be processed according to the following preliminary schedule. Revisions to the schedule will be made as appropriate.

Issue Deficiency Letter | August 2023.
Request Additional Information | August 2023.
Issue Scoping Document 1 | November 2023.
Request Additional Information (if necessary) | November 2023.
Issue Acceptance Letter | December 2023.
Issue Scoping Document 2 | January 2024.
Issue Notice of Ready for Environmental Analysis | January 2024.

r. Final amendments to the application must be filed with the Commission no later than 30 days from the issuance date of the notice of ready for environmental analysis.

Dated: August 4, 2023.
Kimberly D. Bose,
Secretary.

[FR Doc. 2023-17158 Filed 8-9-23; 8:45 am]

BILLING CODE 6717-01-P